DEPARTMENT OF THE INTERIOR

National Park Service

[NPS-WASO-NAGPRA-NPS0027787; PPWOCRADN0-PCU00RP14.R50000]

Notice of Inventory Completion: Tennessee Department of Environment and Conservation, Division of Archaeology, Nashville, TN

AGENCY: National Park Service, Interior.

ACTION: Notice.

SUMMARY: The Tennessee Department of Environment and Conservation, Division of Archaeology has completed an inventory of human remains and associated funerary objects in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to the Tennessee Department of Environment and Conservation, Division of Archaeology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Tennessee Department of Environment and Conservation, Division of Archaeology at the address in this notice by June 14, 2019.

ADDRESSES: Tennessee Department of Environment and Conservation, Division of Archaeology, Michael C. Moore, 1216 Foster Avenue, Cole Building 3, Nashville, TN 37243, telephone (615) 687-4776, email mike.c.moore@tn.gov.

SUPPLEMENTARY INFORMATION: Notice is here given in accordance with the Native American Graves Protection and Repatriation Act (NAGPRA), 25 U.S.C. 3003, of the completion of an inventory of human remains and associated funerary objects under the control of the Tennessee Department of Environment and Conservation, Division of Archaeology, Nashville, TN. The human remains and associated funerary objects were removed from Monroe County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Tennessee Department of Environment and Conservation, Division of Archaeology professional staff in consultation with representatives of the Cherokee Nation; Eastern Band of Cherokee Indians; and the United Keetoowah Band of Cherokee Indians (hereafter referred to as “The Tribes”).

History and Description of the Remains

Between 1958 and 1959, human remains representing, at minimum, one individual were removed from the Ft. Loudoun historic site (40MR1) in Monroe County, TN during test excavations. The partial human remains represent one adult male. Ft. Loudoun (40MR1) is an 18th-century fort located on the south side of the Little Tennessee River in Monroe County, TN. Construction of the fort was begun in 1756, and substantially finished in 1757; final features were completed in 1758. The Cherokee town of Tuskegee was located just south of Ft. Loudoun, and the relationship and interactions between Ft. Loudoun and the Cherokee Indians are well documented (see https://www.tn.gov/content/dam/tn/environment/archaeology/documents/researchseries/arch_rs17_fort_loudoun_2010.pdf). The Fort Loudoun Association sponsored the test excavations, and the work was conducted by a University of Tennessee student, who removed the partial human remains of an adult male from Structure 7 fill (Burial 1 in the 2010 site report). No known individuals were identified. No associated funerary objects are present.

In 1975-1976, human remains representing, at minimum, one individual were removed from the Ft. Loudoun historic site (40MR1) in Monroe County, TN. The human remains of an adult female were recovered during the Tennessee Division of Archaeology (TDOA) excavations (Burial 2 in the 2010 site report). According to the site report, the human remains of this individual were turned over to the McClung Museum at the University of Tennessee, and were reburied at a grave site constructed at the Sequoia Museum (near Ft. Loudoun) along with other Cherokee burial remains from the Little Tennessee Valley. The human remains from Burial 2 in the Division's possession consist of one box of long bones still in dirt. Apparently, these human remains had been excluded from the reburial. No known individuals were identified. The 13 associated funerary objects are three heart-shaped broaches, two circular broaches, one silver cuff bracelet, one iron snuff box, two silver teardrop earrings, and four brass thimbles with holes. Until recently, these associated funerary objects were on display at the Ft. Loudoun State Historic Park. Although the 2010 site report states that five thimbles were recovered during the excavations, only four thimbles were present when the associated funerary objects were returned to the TDOA in 2018. The location of the fifth thimble is unknown. Based upon the range and style of artifacts (broaches, earrings, and thimbles with holes), the associated funerary objects are consistent with previously identified historic period Native American objects used as personal adornments.

Determinations Made by the Tennessee Department of Environment and Conservation, Division of Archaeology

Officials of the Tennessee Department of Environment and Conservation, Division of Archaeology have determined that:

• Pursuant to 25 U.S.C. 3001(9), the human remains described in this notice represent the physical remains of two individuals of Native American ancestry.

• Pursuant to 25 U.S.C. 3001(3)(A), the 13 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Michael C. Moore, Tennessee Department of Environment and Conservation, Division of Archaeology, 1216 Foster Avenue, Cole Building 3, Nashville, TN 37243, telephone (615) 687-4776, email mike.c.moore@tn.gov, by June 14, 2019. After that date, if no additional requestors have come forward, transfer of control of the human remains and associated funerary objects to The Tribes may proceed.

The Tennessee Department of Environment and Conservation, Division of Archaeology is responsible for notifying The Tribes that this notice has been published.

Dated: April 25, 2019.
Melanie O'Brien,
Manager, National NAGPRA Program.

[FR Doc. 2019-09996 Filed 5-14-19; 8:45 am]

BILLING CODE 4312-52-P